DEPARTMENT OF HEALTH AND HUMAN SERVICES

Centers for Disease Control and Prevention

Board of Scientific Counselors, National Center for Health Statistics (BSC, NCHS)

AGENCY: Centers for Disease Control and Prevention (CDC), Department of Health and Human Services (HHS).

ACTION: Notice of meeting.

SUMMARY: In accordance with the Federal Advisory Committee Act, the CDC announces the following meeting for the Board of Scientific Counselors, National Center for Health Statistics BSC, NCHS). This meeting is open to the public.

DATES: The meeting will be held on October 22, 2021, from 11:00 a.m. to 5:30 p.m., EDT.

ADDRESSES: Instructions to access the meeting are posted on the BSC website: https://www.cdc.gov/nchs/about/bsc/bsc_meetings.htm.

FOR FURTHER INFORMATION CONTACT: Rebecca Hines, M.H.S., Executive Secretary, NCHS/CDC, Board of Scientific Counselors, 3311 Toledo Road, Room 2627, Hyattsville, Maryland 20782, Telephone: (301) 458-4717; Email: RSHines@cdc.gov.

SUPPLEMENTARY INFORMATION:

Purpose: The Board is charged with providing advice and making recommendations to the Secretary, Department of Health and Human Services; the Director, CDC; and the Director, NCHS, regarding the scientific and technical program goals and objectives, strategies, and priorities of NCHS.

Matters To Be Considered: The meeting agenda includes welcome remarks and a Center update by the NCHS Director; updates on Data Modernization (DMI), including Epidemiology and Laboratory Capacity for Prevention and Control of Emerging Infectious Diseases (ELC) Collaboration; an update on the National Center for Health Statistics Strategic Planning; presentation on the NCHS Health Equity Strategy; updates on using the National Health Interview Survey (NHIS) as a platform for additional data collection; and an update on several NCHS Programs. Agenda items are subject to change as priorities dictate.

Meeting Information: Please visit the BSC website: https://www.cdc.gov/nchs/about/bsc/bsc_meetings.htm for more information on the meeting agenda, including instructions for accessing the live meeting broadcast.

The Board will reserve time for public comment at the end of the day.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-18454 Filed 8-26-21; 8:45 am]

BILLING CODE 4163-18-P